DEPARTMENT OF TRANSPORTATION

Federal Railroad Administration

[Docket Number FRA-2011-0064]

Petition for Waiver of Compliance

In accordance with Part 211 of Title 49 of the Code of Federal Regulations (CFR), this document provides the public notice that by a document dated July 12, 2011, the Association of American Railroads (AAR) has petitioned the Federal Railroad Administration (FRA) for a waiver of compliance from certain provisions of the Federal railroad safety regulations contained at 49 CFR 229.135(b)(5) and (b)(6). FRA assigned the petition Docket Number FRA-2011-0064.

Specifically, the AAR seeks a waiver exempting railroads from meeting the 49 CFR Part 229, Appendix D, requirements until December 31, 2015, due to Positive Train Control (PTC) requirements unforeseen at the time 49 CFR 229.135(b5) and (b6) were adopted. The PTC mandate will require an entirely new event recorder module, inclusive of the Appendix D requirements. Title 49 CFR Section 229.135(b) requires that certain locomotives be equipped with an event recorder that includes a certified crashworthy event recorder memory module (ERMM). The Appendix D section prescribes the requirements for certifying ERMM as being crashworthy, including the performance criteria and test sequence for establishing the crashworthiness of the ERMM, as well as the marking of the event recorder containing the crashworthy ERMM. The railroads are spending as much as $5,000.00 on modules that will have to be replaced prematurely when these locomotives are equipped with PTC. Therefore, a waiver of the Appendix D requirement will enable the industry to avoid the expense of this compliance for modules that will only be used for a short period of time.

A copy of the petition, as well as any written communications concerning the petition, is available for review online at http://www.regulations.gov and in person at the U.S. Department of Transportation's (DOT) Docket Operations Facility, 1200 New Jersey Ave., SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays. Communications received by October 14, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on August 23, 2011.
Robert C. Lauby,
Deputy Associate Administrator for Regulatory and Legislative Operations.

[FR Doc. 2011-22058 Filed 8-29-11; 8:45 am]

BILLING CODE 4910-06-P